DEPARTMENT OF TRANSPORTATION

Federal Railroad Administration

Agency Request for Emergency Processing of Collection of Information by the Office of Management and Budget

AGENCY: Federal Railroad Administration (FRA), Department of Transportation (DOT).

ACTION: Notice.

SUMMARY: FRA hereby gives notice that it is seeking emergency approval processing from the Office of Management and Budget (OMB) under the Paperwork Reduction Act of 1995 (Pub. L. 104-13, 44 U.S.C. Chapter 35) for the information collection request (ICR) listed below. FRA requests that OMB authorize the collection of information identified below on or before October 31, 2008, for a period of 180 days after the date of issuance of this notice in the Federal Register. On October 7, 2008, in response to the September 12, 2008, Chatsworth, California, collision of a Union Pacific (UP) freight train and a Metrolink commuter train, which resulted in the deaths of 25 people and numerous injuries, as well as other recent accidents/incidents involving cell phone use and use of electronic/electrical devices, FRA published in the Federal Register Emergency Order No. 26 (E.O. 26) (see 73 FR 58702) restricting on-duty railroad operating employees' use of cell phones and other distracting electronic and electronic devices. Because E.O. 26 goes into effect on October 27, 2008, and because E.O. 26 imposes information collection requirements that must be fulfilled by the nation's railroads, FRA is seeking emergency approval for the proposed collection of information to enforce compliance with E.O. 26 and to ensure the safety of affected railroad employees and the general public during train operations throughout the United States.

DATES: Comments must be received no later than November 3, 2008.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130—New” and the title of the proposed collection of information. Alternatively, comments may be transmitted via facsimile to (202) 493-6216 or (202) 493-6497, or via e-mail to Mr. Brogan at robert.brogan@dot.gov, or to Ms. Jackson at nakia.jackson@dot.gov. Please refer to the assigned OMB control number in any correspondence submitted.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: Below is a brief summary of the currently approved information collection activities that FRA is submitting for clearance by OMB:

OMB Control Number: 2130—New.

Title: FRA Emergency Order No. 26, Notice No. 1.

Type of Request: Emergency approval.

Affected Public: Businesses.

Form Number(s): N/A.

Abstract: Emergency Order No. 26—and its associated collection of information—is FRA's direct and proactive response to the September 12, 2008, Chatsworth, California, collision of a Union Pacific (UP) freight train and a Metrolink commuter train, which resulted in the deaths of 25 people and numerous injuries to train occupants, as well as to other train accidents/incidents involving cell phone use and use of electronic/electrical devices that have occurred throughout the country recently. The collection of information under Emergency Order No. 26 is aimed at ensuring that railroads revise their programs of operational tests and inspections, as necessary, to include the requirements of E.O. 26 and specifically include a minimum number of operational tests and inspections; and at ensuring railroads instruct each of their operating employees and supervisors of railroad operating employees concerning the requirements of E.O. 26 and implementing railroad rules and instructions. The collection of information under E.O. 26 also contains a provision that allows railroads to petition for relief from this Order by adopting other means of ensuring that railroad operating employees are not distracted from their duties by use of electronic or electrical devices or by implementing technology that will prevent inappropriate acts and omissions from resulting in injury to persons.

Reporting Burden
Emergency order item No. 26 | Respondent universe | Total annual responses | Average time per response | Total annual burden hours
(1) Revision of Railroad's Program of Operational Tests and Inspections | 687 Railroads | 687 amended programs | 1 hour | 687 hours
Under 49 CFR 217 to Include Requirements of E.O. 26 | 20 New Railroads | 20 amended programs | 1 hour | 20 hours
(2) Employee Training in Requirements of E.O. 26 and Implementing Railroad Rules and Instructions | 130,000 RR Employees | 130,000 Trained Employees | 15 minutes | 32,500 hours
(3) Petitions of Relief from E.O. 26 | 687 Railroads | Zero (0) Petitions | Zero (0) minutes/hours | Zero (0) hours

Form Number(s): N/A.

Respondent Universe: 685 Railroads; 100,000 Railroad Employees.

Frequency of Submission: One-time; On occasion.

Total Responses: 130,707.

Total Annual Estimated Burden: 33,207 hours.

Status: Emergency Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on October 21, 2008.
Kimberly Orben,
Acting Director, Office of Financial Management, Federal Railroad Administration.

[FR Doc. E8-25480 Filed 10-24-08; 8:45 am]

BILLING CODE 4910-06-P